DEPARTMENT OF COMMERCE

International Trade Administration

[A-122-863]

Large Diameter Welded Pipe From Canada: Preliminary Results of Antidumping Duty Administrative Review and Preliminary Determination of No Shipments; 2021-2022

AGENCY: Enforcement and Compliance, International Trade Administration, Department of Commerce.

SUMMARY: The U.S. Department of Commerce (Commerce) preliminarily finds that large diameter welded pipe (welded pipe) from Canada was not sold in the United States at less than normal value (NV) during the period of review (POR), May 1, 2021, through April 30, 2022. The review covers 40 producers or exporters of the subject merchandise, including the single entity comprised of Evraz Inc. NA, Evraz Inc. NA Canada and The Canadian National Steel Corporation (collectively, Evraz), the sole respondent that was selected for individual examination. We invite interested parties to comment on these preliminary results.

DATES: Applicable June 6, 2023.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Background

On May 2, 2019, Commerce published the antidumping duty order on welded pipe from Canada.¹ On July 14, 2022, in accordance with 19 CFR 351.221(c)(1)(i), Commerce published in the Federal Register the initiation of this administrative review of the Order.²

¹ See Large Diameter Welded Pipe from Canada: Antidumping Duty Order, 84 FR 18775 (May 2, 2019) (Order).

² See Initiation of Antidumping and Countervailing Duty Administrative Reviews, 87 FR 42144 (July 14, 2022).

Pursuant to section 751(a)(3)(A) of the Tariff Act of 1930, as amended (the Act), on December 22, 2022, Commerce determined that it was not practicable to complete the preliminary results of this review within 245 days and extended the deadline for the preliminary results of this review by 100 days, until May 11, 2023.³ On April 27, 2023, Commerce extended the deadline of the preliminary results by 20 additional days, until May 31, 2023.⁴

³ See Memorandum, “Extension of Deadline for Preliminary Results of Antidumping Duty Administrative Review; 2021-2022,” dated December 22, 2022.

⁴ See Memorandum, “Second Extension of Deadline for Preliminary Results of Antidumping Duty Administrative Review,” dated April 27, 2023.

For a detailed description of the events that followed the initiation of this review, see the Preliminary Decision Memorandum.⁵ A list of topics discussed in the Preliminary Decision Memorandum is included as Appendix I to this notice. The Preliminary Decision Memorandum is a public document and is available via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁵ See Memorandum, ” Decision Memorandum for the Preliminary Results of the Administrative Review of the Antidumping Duty Order on Large Diameter Welded Pipe from Canada; 2021-2022,” dated concurrently with, and hereby adopted by, this notice (Preliminary Decision Memorandum).

Scope of the Order

The product covered by the Order is welded pipe from Canada. The subject merchandise is currently classified in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this Order is dispositive.

For a full description of the scope, see the Preliminary Decision Memorandum.

Preliminary Determination of No Shipments

Three exporters under review, Forterra Pipe & Precast, Ltd. (Forterra), Hyprescon Inc. (Hyprescon), and Canam Group Inc. (Canam), properly filed a certification reporting that they made no shipments of subject merchandise during the POR.⁶ We received no information from U.S. Customs and Border Protection (CBP) that contradicts Forterra, Hyprescon, and Canam's no-shipment claims.⁷ Therefore, we preliminarily determine that these companies did not have shipments of subject merchandise during the POR. Consistent with Commerce's practice,⁸ Commerce finds that it is not appropriate to rescind the review with respect to these companies, but rather, to complete the review and issue appropriate instructions to CBP based on the final results of this review.

⁶ See Forterra and Hyprescon's Letter, “No Shipment Letter of Forterra and Hyprescon Inc.,” dated August 9, 2022; see also Canam's Letter, “Canam Group Inc.'s Certification of No Sales, Shipments, or Entries,” dated August 10, 2022. In the Initiation Notice, Canam was listed as Canam (St Gedeon). However, in its certification of no shipments, it noted that Canam (St Gedeon) is a plant location and not its legal name.

⁷ See Memorandum, “No Shipment Inquiry for Multiple Companies During the Period 05/01/2021 through 4/30/2022,” dated January 9, 2023.

⁸ See, e.g., Certain Frozen Warmwater Shrimp from Thailand: Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306 (August 28, 2014).

Methodology

Commerce is conducting this review in accordance with section 751(a) of the Act. Export price is calculated in accordance with section 772 of the Act. Normal value is calculated in accordance with section 773 of the Act. For a full description of the methodology underlying these preliminary results, see the Preliminary Decision Memorandum.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in a less-than-fair-value (LTFV) investigation, for guidance when determining the weighted-average dumping margin for companies that were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

In this review, we preliminarily calculated a weighted-average dumping margin of 0.00 percent for Evraz, the sole mandatory respondent. Consistent with the U.S. Court of Appeals for the Federal Circuit's decision in Albemarle,⁹ and Commerce's practice,¹⁰ we are applying a weighted-average dumping margin of zero percent to the companies not selected for individual examination in this review, because we calculated a rate of zero percent for the mandatory respondent. This is the only weighted-average dumping margin determined in this review for an individually examined respondent and, thus, we are applying this rate to the non-examined companies under review under section 735(c)(5)(B) of the Act.¹¹

⁹ See Albermarle Corp. v. United States, 821 F.3d 1345 (Fed. Cir. 2016) (Albemarle).

¹⁰ See, e.g., Certain Cold-Rolled Steel Flat Products from the Republic of Korea: Final Results of Antidumping Duty Administrative Review; 2019-2020, 87 FR 15371 (March 18, 2022).

¹¹ See Appendix II for a list of non-examined companies under review.

Preliminary Results of Review

We preliminarily determine that the following weighted-average dumping margins exist for the period May 1, 2021, through April 30, 2022:

Producer or exporter | Weighted- average dumping margin (percent)
Evraz Inc. NA; Evraz Inc. NA Canada; The Canadian National Steel Corporation | 0.00
Non-Examined Companies | 0.00

Verification

As provided in section 782(i)(3) of the Act, Commerce intends to verify the information relied upon for its final results.

Disclosure and Public Comment

We intend to disclose the calculations performed for these preliminary results to interested parties under administrative protective order within ten days after the date of public announcement of the preliminary results, or within five days after the publication of the preliminary results in the Federal Register.¹²

¹² See 19 CFR 351.224(b).

Interested parties will be notified of the deadline for the submission of case briefs and written comments at a later date.¹³ Rebuttal briefs, limited to issues raised in the case briefs, may be filed not later than seven days after the date for filing case briefs.¹⁴ Parties who submit case briefs or rebuttal briefs in this proceeding are encouraged to submit with each argument: (1) a statement of the issue; (2) a brief summary of the argument; and (3) a table of authorities.¹⁵ Executive summaries should be limited to five pages total, including footnotes.

¹³ See 19 CFR 351.309(c)(1)(ii).

¹⁴ See 19 CFR 351.309(d)(1) and (2); see also Temporary Rule Modifying AD/CVD Service Requirements Due to COVID-19; Extension of Effective Period, 85 FR 41363 (July 10, 2020) (Temporary Rule).

¹⁵ See 19 CFR 351.309(c)(2) and (d)(2).

Pursuant to 19 CFR 351.310(c), interested parties who wish to request a hearing must submit a written request to the Assistant Secretary for Enforcement and Compliance, within 30 days after the date of publication of this notice. Requests should contain: (1) the party's name, address, and telephone number; (2) the number of participants; (3) whether any participant is a foreign national; and (4) a list of issues to be discussed. Issues raised in the hearing will be limited to those raised in the respective case and rebuttal briefs. If a request for a hearing is made, Commerce intends to hold the hearing at a date and time to be determined.¹⁶ Parties should confirm by telephone the date, time, and location of the hearing two days before the scheduled date.

¹⁶ See 19 CFR 351.310(d).

All briefs and hearing requests must be filed electronically using ACCESS,¹⁷ and must be served on interested parties.¹⁸ An electronically filed document must be received successfully in its entirety by ACCESS by 5:00 p.m. Eastern Time. Note that Commerce has temporarily modified certain of its requirements for serving documents containing business proprietary information, until further notice.¹⁹

¹⁷ See 19 CFR 351.303.

¹⁸ See 19 CFR 351.303(f).

¹⁹ See generally Temporary Rule.

Assessment Rates

Pursuant to section 751(a)(2)(A) of the Act and 19 CFR 351.212(b)(1), Commerce intends to determine, and CBP shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

For an individually examined respondent whose weighted-average dumping margin is not zero or de minimis (i.e., less than 0.50 percent), upon completion of the final results, Commerce intends to calculate importer-specific antidumping duty assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.²⁰ To determine whether an importer-specific, per-unit assessment rate is de minimis, in accordance with 19 CFR 351.106(c)(2), we also will calculate an importer-specific ad valorem ratio based on estimated entered values. Where either a respondent's weighted-average dumping margin is zero or de minimis, or an importer-specific assessment rate is zero or de minimis, we intend to instruct CBP to liquidate appropriate entries without regard to antidumping duties.²¹

²⁰ See 19 CFR 351.212(b)(1).

²¹ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by an individually examined respondent for which it did not know its merchandise was destined for the United States, we intend to instruct CBP to liquidate such entries at the all-others rate (i.e., 12.32 percent) ²² if there is no rate for the intermediate company(ies) involved in the transaction.²³

²² See Order, 84 FR at 18775-76.

²³ See Antidumping and Countervailing Duty Proceedings: Assessment of Antidumping Duties, 68 FR 23954 (May 6, 2003).

For the companies which were not selected for individual examination, we intend to instruct CBP to assess antidumping duties at a rate equal to the weighted-average dumping margin determined for the non-examined companies in the final results of review.

If Commerce determines that an exporter under review had no shipments of the subject merchandise, any suspended entries that entered under that exporter's case number (i.e., at that exporter's rate) will be liquidated at the all-others rate if there is no rate for the intermediate company(ies) involved in the transaction.

The final results of this review shall be the basis for the assessment of antidumping duties on entries of merchandise covered by the final results of this review and for future cash deposits of estimated antidumping duties, where applicable.²⁴

²⁴ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be equal to the company-specific rate published for the most recently-completed segment of this proceeding in which the company was reviewed; (3) if the exporter is not a firm covered in this review, a prior completed review, or the LTFV investigation, but the producer is, then the cash deposit rate will be equal to the company-specific rate established for the most recently-completed segment of this proceeding for the producer of subject merchandise; and (4) the cash deposit rate for all other producers and exporters will continue to be 12.32 percent, the all-others rate established in the LTFV investigation.²⁵ These cash deposit requirements, when imposed, shall remain in effect until further notice.

²⁵ See Order.

Final Results of Review

Unless the deadline is otherwise extended, Commerce intends to issue the final results of this administrative review, including the results of its analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

These preliminary results are issued and published in accordance with sections 751(a)(1) and 777(i)(1) of the Act, and 19 CFR 351.221(b)(4).

Dated: May 31, 2023.
Lisa W. Wang,
Assistant Secretary for Enforcement and Compliance.

Appendix I—List of Topics Discussed in the Preliminary Decision Memorandum

I. Summary

II. Background

III. Scope of the Order

IV. Preliminary Determination of No Shipments

V. Rate for Non-Examined Companies

VI. Discussion of the Methodology

VII. Currency Conversion

VIII. Recommendation

Appendix II—Companies Not Selected for Individual Examination

1. Acier Profile SBB Inc.

2. Aciers Lague Steels Inc.

3. Amdor Inc.

4. BPC Services Group

5. Bri-Steel Manufacturing

6. Canada Culvert.

7. Cappco Tubular Products Canada Inc.

8. CFI Metal Inc.

9. Dominion Pipe & Piling

10. Enduro Canada Pipeline Services

11. Fi Oilfield Services Canada

12. Gchem Ltd.

13. Graham Construction

14. Groupe Fordia Inc.

15. Grupo Fordia Inc.

16. Hodgson Custom Rolling

17. Interpipe Inc.

18. K K Recycling Services

19. Kobelt Manufacturing Co.

20. Labrie Environment

21. Les Aciers Sofatec

22. Lorenz Conveying P

23. Lorenz Conveying Products

24. Matrix Manufacturing

25. MBI Produits De Forge

26. Nor Arc

27. Peak Drilling Ltd.

28. Pipe & Piling Sply Ltd.

29. Pipe & Piling Supplies

30. Prudental

31. Prudential

32. Shaw Pipe Protecction

33. Shaw Pipe Protection

34. Tenaris Algoma Tubes Facility

35. Tenaris Prudential

36. Welded Tube of Can Ltd.

[FR Doc. 2023-12027 Filed 6-5-23; 8:45 am]

BILLING CODE 3510-DS-P